DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: All comments on the petitions must be received by the Office of Standards, Regulations and Variances on or before June 19, 2009.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-004-C.

Petitioner: Cumberland Coal Resources, LP, Three Gateway Center, 401 Liberty Avenue, Suite 1340, Pittsburgh, Pennsylvania.

Mine: Cumberland Mine, MSHA I.D. No. 36-05018, located in Greene County, Pennsylvania.

Regulation Affected: 30 CFR 75.1700 (Oil and gas wells).

Modification Request: The petitioner requests a modification of the existing standard to permit an alternative method of compliance for the standard with respect to vertical degasification wells with horizontal laterals into the underground coal seam. The petitioner proposes to mine through vertically drilled degasification boreholes with horizontal laterals using the following plugging procedures: (1) The borehole will be filled with flexible gel prior to the anticipated mine through and may use alternative grouting methods including cementatious or polyurethane grout; (2) a packer will be installed at a location in the lateral to ensure that an appropriate amount of the lateral is filled with gel; (3) any water present in the hole will be tested for chlorides prior to the time of gelling and the gel quality will be adjusted to compensate for the chloride concentration; and (4) a triplex piston pump will be used to pump 1.75 times the calculated hole volume of gel underground until the volume of gel is depleted and 100-140 psi pressure is realized, or until gel leakage is observed along the ribs underground. The petitioner also proposes to use the following procedures for mining through plugged degasification boreholes: (1) Prior to mining within 300 feet of the borehole or lateral MSHA and the Bureau of Deep Mine Safety, and a representative of the miners will be notified both verbally and through a letter accompanied by a drawing of the borehole location and copy of a certification that plugging has occurred; (2) prior to mining through, the District Mine Inspector from the Bureau of Deep Mine Safety, the MSHA District Manager, and a representative of the United Mine Workers of America will be notified in sufficient time to have a representative present during the mining through operation; and (3) inform all personnel working underground at the beginning of the shift in which a borehole or lateral will be mined through to inform them of the cut through and communication procedure to be used. Persons may review a complete description of the petitioner's procedures for plugging and mining through oil and gas wells at the MSHA address listed in this notice. The petitioner asserts that the proposed alternative method would at all times guarantee no less than the same measure of protection afforded the miners under the existing standard.

Docket Number: M-2009-005-C.

Petitioner: Pinnacle Mining Company, LLC, P.O. Box 338, Pineville, West Virginia 24874-0338.

Mine: Pinnacle Mine, MSHA I.D. No. 46-01816, located in Wyoming County, West Virginia.

Regulation Affected: 30 CFR 75.1700 (Oil and gas wells).

Modification Request: The petitioner requests a modification of the existing standard to permit mining through Surface Drilled Coalbed Methane Wells with Horizontal Branches in Coal Seams. The petitioner proposes to continue mining through the vertical boreholes and horizontal legs and branches of Coalbed Methane Wells that penetrate the coalbed being mined. The petitioner states that the following method(s) will be used to protect the miners in the mine against hazards from the wells while mining through Surface Drilled Coalbed Methane Wells with Horizontal Branches in Coal Seams: Intact Surface Articulated Horizontal Borehole (SAHB) Mine plans Option 1: (1) The SAHB will be infused with water prior to the underground mining operations breaching the SAHB; (2) legs that are opened after mining through may have an effective plug installed into the coal rib to prevent an influx of methane into the mined area. An effective plug is any material that impedes the flow of methane and water. Typically, a hydraulic packer is used to plug the hole but cement or grout may be substituted; and (3) the holes may be filled with water after other legs are breached. The petitioner states that typically, open legs are breached several times during development mining, which allows the segmented hole to be ventilated or filled with water, and when the trunk line of a SAHB has not been severed, a negative pressure surface pump connected to the SAHB may be used to ventilate the hole. Option 2: (1) The SAHB will be infused with water prior to the underground mining operations breaching the SAHB; (2) a low strength grout mixture will be injected into the SAHB from the surface after infusion; (3) if the SAHB is located such that it may be used as a gob well for longwall panel, the amount of grout mixture injected will be limited to filling a void in the coal seam, or the SAHB will be filled with grout to at least fifty feet above the upper most underground mineable coal seam. The petitioner also states that the following method(s) will be used to protect the miners in the mine against hazards from the wells while mining through Surface Drilled Coalbed Methane Wells with Horizontal Branches in Coal Seams: Breached Surface Articulated Horizontal Borehole (SAHB) Mine Through Plan: (1) Breached SAHB's will be ventilated in accordance with all State and Federal regulations; (2) legs that are open after mining through may have an effective plug installed into the coal rib to prevent an excess of methane into the mined area. An effective plug is any material that impedes the flow of methane and water. Typically, a hydraulic packer is used to plug the hole but cement or grout may be substituted. The hole is plugged when typical face ventilation will not suffice and the potential for methane accumulation exists, usually occurring immediately after cut through; (3) typically, open legs are breached several times during development mining, which allows the segmented hole to be ventilated and eliminates methane storage capacity; (4) should a situation occur where a breached leg continues to produce methane and cannot be ventilated, the hole will be water infused again. Water infusion will take place underground using mine water at standard operating pressure. The hole will remain infused until it is determined that it may be safely bled off and ventilated or it is breached during secondary mining; and (5) when the trunk line of a SAHB has not been severed, a negative pressure surface pump connected to the SAHB may be used to ventilate the hole. The petitioner asserts that the proposed alternative method will at all times guarantee no less than the same measure of protection afforded by the existing standard.

Docket Number: M-2009-006-C.

Petitioner: Spartan Mining Company, P.O. Box 1120, Holden, West Virginia 25625.

Mine: Road Fork No. 51 Mine, MSHA I.D. No. 46-01544, located in Wyoming County, West Virginia.

Regulation Affected: 30 CFR 75.1700 (Oil and gas wells).

Modification Request: The petitioner requests a modification of the existing standard to permit an alternative method of compliance when: (1) Mining within 75 feet of a horizontal wellbore; (2) when initially mining through a horizontal wellbore; and (3) when subsequently mining through horizontal wellbores, using the specific procedures listed in this petition for modification. The petitioner states that; (1) no person shall be permitted in the area of the mine-through operation except those actually engaged in the operation, company personnel, personnel from MSHA, and personnel from the appropriate West Virginia agency; (2) the mine-through operation shall be under the direct supervision of a certified official; and (3) prior to mining through the first lateral wellbore of a coalbed methane well and a well which has already had at least one lateral wellbore mined through, Spartan will verify that any water that is present will be bailed from the vertical section of the wellbore, as close to the coal seam elevation as practical, using normal bailing equipment; and (4) the surface wellhead will be maintained opened to bring the vertical section of the wellbore to outside atmosphere pressure. A complete description of the procedures the petitioner will use in implementing its modification can be reviewed at the MSHA address listed in this notice. The petitioner asserts that the proposed alternative method will at all times guarantee no less than the same measure of protection afforded by the existing standard.

Docket Number: M-2009-007-C.

Petitioner: Black Butte Coal Company, P.O. Box 98, Point of Rocks, Wyoming 82942.

Mine: Black Butte and Leucite Hills Mines, MSHA I.D. No. 48-01180, located in Sweetwater County, Wyoming.

Regulation Affected: 30 CFR 77.1304(a) (Blasting agents; special provisions).

Modification Request: The petitioner requests a modification of the existing standard to permit the use of commercially recycled petroleum-based lubrication oil that is commercially mixed with unused No. 2 fuel oil to create a blasting agent. The petitioner states that the mixed oil is purchased in batches of approximately 8,000 to 10,000 gallons and is not mixed with ammonium nitrate prill until the Ammonium Nitrate-Fuel Oil (ANFO) components are placed in a blasting hole. The petitioner asserts that the proposed alternative method would at all times guarantee no less than the same measure of protection afforded by the existing standard.

Patricia W. Silvey,
Director, Office of Standards, Regulations and Variances.

[FR Doc. E9-11674 Filed 5-19-09; 8:45 am]

BILLING CODE 4510-43-P